ENVIRONMENTAL PROTECTION AGENCY

40 CFR Part 300

[FRL-7500-8]

National Oil and Hazardous Substance Pollution Contingency Plan; National Priorities List

AGENCY: Environmental Protection Agency.

ACTION: Direct Final Notice of Deletion of the Rose Park Sludge Pit Superfund Site From the National Priorities List.

SUMMARY: The Environmental Protection Agency (EPA) Region 8 is publishing a Direct Final Notice of Deletion of the Rose Park Sludge Pit Superfund Site (Site), located in Salt Lake City, Utah, from the National Priorities List (NPL).

The NPL, promulgated pursuant to Section 105 of the Comprehensive Environmental Response, Compensation, and Liability Act (CERCLA) of 1980, as amended, is appendix B to 40 CFR part 300, the National Oil and Hazardous Substances Pollution Contingency Plan (NCP). This direct final deletion is being published by EPA with the concurrence of the State of Utah, through the Utah Department of Environmental Quality (UDEQ), based on EPA's determination that all appropriate response actions under CERCLA, other than five-year reviews and operation & maintenance, have been completed at the Site and, therefore, further remedial action pursuant to CERCLA is not appropriate.

DATES: This direct final deletion will be effective June 30, 2003, unless EPA receives adverse comments by June 23, 2003. If EPA receives significant adverse comment(s), EPA will withdraw the Direct Final Notice of Deletion and it will not take effect.

ADDRESSES: Comments should be mailed to: Armando Saenz, Remedial Project Manager (RPM), Mail Code: 8EPR-SR, U.S. EPA Region 8, 999 18th Street, Suite 300, Denver, Colorado, 80202-2466.

Information Repositories: Comprehensive information is available for viewing and copying at the following information repositories for the Site: (1) U.S. EPA Region 8 Superfund Records Center, 999 18th Street, Fifth Floor, Denver, Colorado 80202-2466, Monday through Friday, 8 a.m.—4:30 p.m.; and, (2) Utah Department of Environmental Quality, Division of Environmental Response & Remediation, 168 North 1950 West, Salt Lake City, Utah 84116.

FOR FURTHER INFORMATION CONTACT: Armando Saenz, 303-312-6559, Remedial Project Manager (RPM), Mail Code: 8EPR-SR, U.S. EPA Region 8, 999 18th Street, Suite 300, Denver, Colorado, 80202-2466.

SUPPLEMENTARY INFORMATION:

Table of Contents

I. Introduction

II. NPL Deletion Criteria

III. Deletion Procedures

IV. Basis for Site Deletion

V. Deletion Action

I. Introduction

EPA Region 8 is publishing this Direct Final Notice of the Deletion of the Rose Park Sludge Pit Superfund Site from the NPL.

The EPA identifies sites that appear to present a significant risk to public health or the environment and maintains the NPL as the list of those sites. As described in § 300.425(e)(3) of the NCP, sites deleted from the NPL remain eligible for remedial actions if conditions at a deleted site warrant such action, pursuant to EPA's authority under CERCLA and the NCP.

Because EPA considers this action to be noncontroversial, this action is being taken without prior publication of a notice of intent to delete. This action will be effective June 30, 2003 unless EPA receives adverse comments by June 23, 2003 on this document. If adverse comments are received within the 30-day public comment period on this document, EPA will publish a timely withdrawal of this direct final deletion before the effective date of the deletion and the deletion will not take effect. EPA will, as appropriate, prepare a response to comments and continue with the deletion process on the basis of this Notice and the comments already received. There will be no additional opportunity to comment on this deletion process.

Section II of this document explains the criteria for deleting sites from the NPL. Section III discusses procedures that EPA is using for this action. Section IV discusses the Rose Park Sludge Pit Superfund Site and demonstrates how it meets the deletion criteria. Section V discusses EPA's action to delete the Site from the NPL unless adverse comments are received during the public comment period.

II. NPL Deletion Criteria

Section 300.425(e) of the NCP provides that sites may be deleted from the NPL where no further response is appropriate. In making a determination to delete a site from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, EPA policy requires that a subsequent review of the site be conducted at least every five years after the initiation of the remedial action at the deleted site to ensure that the action remains protective of public health and the environment. If new information becomes available which indicates a need for further action, EPA may initiate or order remedial actions. Whenever there is a significant release from a site deleted from the NPL, the deleted site may be restored to the NPL without application of the hazard ranking system.

III. Deletion Procedures

The following procedures apply to deletion of the Site:

(1) The EPA, lead agency for the Site, consulted with Utah on the deletion of the Site from the NPL prior to developing this direct final notice of deletion.

(2) Utah concurred with deletion of the Site from the NPL.

(3) Concurrent with the publication of this Direct Final Notice of Deletion, a notice of the availability of the parallel Notice of Intent to Delete was published today in the “Proposed Rules” section of the Federal Register, is being published in a major local newspaper of general circulation at or near the Site and is being distributed to appropriate federal, state and local government officials and other interested parties; the newspaper notice announces the 30-day public comment period concerning the Notice of Intent to Delete the Site from the NPL.

(4) The EPA placed copies of documents supporting the deletion in the Site information repositories identified above.

(5) If adverse comments are received within the 30-day public comment period on this notice, EPA will publish a timely notice of withdrawal of this Direct Final Notice of Deletion before its effective date and will prepare a response to comments and continue with the deletion process on the basis of the notice of intent to delete and the comments already received.

Deletion of a site from the NPL does not itself create, alter or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location & History

The Site is located in Salt Lake City, Utah at approximately 1300 North Boy Scout Drive (1200 West). The Site is bordered by vacant, undeveloped land to the north and Rose Park to the east, west, and south. Rose Park is maintained by Salt Lake City Corporation and includes tennis courts, baseball and soccer fields, picnic areas, parking lots, and restrooms. Residential neighborhoods are located south of Rose Park.

Utah Oil and Refining Company disposed of acidic waste sludges in an unlined pit on-site from the 1930s until 1957. This waste material was generated from the petroleum refinery located east of the site. Salt Lake City purchased the property in 1957 to prevent further dumping of the waste material. In 1960 Salt Lake City Corporation removed 40 to 100 truck-loads of sludge and covered the remaining waste sludge with a soil cap.

Salt Lake City rediscovered the waste disposal site in 1976 during expansion of the adjacent city park. Due to state and local concerns, EPA and Amoco conducted a number of site investigations between 1979 and 1981. The sludge pit covered an area of approximately 5.5 acres and the waste material was found as deep as 20 feet below ground surface (bgs). The shallow, unconfined aquifer was approximately eight to ten feet bgs and flowed towards the northwest. Because the Site was considered the State of Utah's top priority, it was listed on the NPL on September 8, 1983.

Remedial Actions

Salt Lake City Corporation, Salt Lake City/County Health Department, the Utah State Department of Health, EPA, and Amoco Oil Company signed an Intergovernmental/Corporate Cooperation Agreement (ICCA) on October 29, 1982. The ICCA required Amoco to conduct remedial activities on-site, which included constructing a bentonite slurry wall around the perimeter of the site and capping the waste material. The primary objectives of the containment remedy were to prevent exposure to the acid waste sludge, eliminate potentially unhealthy odors and vapors, and prevent off-site migration of the sludge through surface water and groundwater.

Amoco conducted remedial activities at the Site between 1982 and 1984. First, a two-foot wide and 30-feet deep bentonite slurry wall was constructed around the perimeter of the site. This wall was installed ten feet below the deepest known contamination. Construction of the slurry wall was completed on January 17, 1983. Following installation of the slurry wall, Amoco constructed a cap over the waste material. This protective cover included a sand layer, fabric membrane, compacted clay layer, and 18-inches of soil. Placement of the cap was completed on July 22, 1983. The surface of the cap was then graded to control surface water run-on and run-off. The final seeding of the topsoil was completed in the spring of 1984. Lastly, vehicular barriers and warning signs were placed around the perimeter of the repository in October 1984.

The U.S. Army Corps of Engineers (COE) provided construction oversight for the EPA. The COE indicated in their progress reports that the slurry wall and cap were constructed according to the design and there were no deficiencies. EPA also determined the remedy; as designed and implemented; was protective of human health and the environment because all exposure pathways had been addressed.

Institutional Controls (ICs) and Operation & Maintenance (O&M)

ICs and O&M requirements for the Site were also included in the ICCA. The ICs prevent excavation activities or the installation of any underground utilities on the Site. BP/Amoco recorded the ICCA in the chain-of-title for the Site at the Salt Lake County Recorders Office in 1985. The recording provides a public record of the ICs and background information in the event of a transfer of ownership.

O&M activities at the Site included groundwater monitoring and sampling, site inspections, and well integrity testing. Salt Lake City Corporation conducted O&M activities from 1984 through 1992. Because the EPA, State of Utah, and BP/Amoco identified several deficiencies regarding O&M activities during this time period, BP/Amoco took over the responsibility of O&M from the Salt Lake City Corporation in 1992. Since taking over this duty in 1992, BP/Amoco has documented the O&M activities from each year in an annual report.

Five-Year Reviews

Three Five-Year Reviews have been conducted at the Site. The reviews were completed on June 1, 1992, August 5, 1997 and September 19, 2002, respectively. These reviews indicated that the remedy was protective of human health and the environment.

The last review, conducted by UDEQ, found that the cap is in good condition thus preventing exposure to the waste material in the repository. A chain-link fence and guardrail around the perimeter of the repository prevent public access to the Site and caution signs on each side of the repository warn park visitors of the Site. Ground-water monitoring data indicate the waste material remains contained within the repository. ICs for the Site prevent excavation activities or the installation of underground utilities on the Site. Three issues that did not immediately impact protectiveness were identified and have subsequently been addressed by BP/Amoco.

Policy reviews are required at the Site every five years because remedial activities were completed prior to the passage of the Superfund Amendments and Reauthorization Act (SARA) of 1986 and waste material was left on-site, which prevents unrestricted exposure and unlimited use of the Site. Therefore, the next Five-Year Review for this Site will be conducted by September 19, 2007.

Community Involvement

Public participation activities have been satisfied as required in CERCLA section 113(k), 42 U.S.C. 9613(k), and CERCLA section 117, 42 U.S.C. 9617. Documents in the deletion docket, which EPA relied on for recommendation of the deletion from the NPL, are available to the public in the information repositories.

V. Deletion Action

The EPA, with concurrence from the State of Utah through UDEQ, has determined that all appropriate responses under CERCLA have been completed, and that no further response actions, under CERCLA, other than five-year reviews and operation & maintenance, are necessary. Therefore, EPA is taking this action to delete the Site from the NPL.

Because EPA considers this action to be noncontroversial, this action is being taken without prior publication of a notice of intent to delete. This action will be effective June 30, 2003, unless EPA receives adverse comments by June 23, 2003. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment on this deletion process.

List of Subjects in 40 CFR Part 300

Environmental protection, Air pollution control, Chemicals, Hazardous waste, Hazardous substances, Intergovernmental relations, Penalties, Reporting and recordkeeping requirements, Superfund, Water pollution, Water supply.

Dated: May 2, 2003.
Robert E. Roberts,
Regional Administrator, Region 8.

For the reasons set out in this document, 40 CFR Part 300 is amended as follows:

PART 300—[AMENDED]

1. The authority citation for Part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended under “Utah” by removing the entry for “Rose Park Sludge Pit”.

[FR Doc. 03-12612 Filed 5-21-03; 8:45 am]

BILLING CODE 6560-50-P